DEPARTMENT OF THE INTERIOR

Fish and Wildlife Service

Endangered Species Permit Applications

AGENCY: Fish and Wildlife Service, Interior.

ACTION: Notice of receipt.

SUMMARY: We announce our receipt of applications to conduct certain activities pertaining to scientific research and enhancement of survival of endangered species.

DATES: Written comments on these requests for permits must be received May 9, 2002.

ADDRESSES: Written data or comments should be submitted to the Assistant Regional Director-Ecological Services, U.S. Fish and Wildlife Service, P.O. Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

SUPPLEMENTARY INFORMATION: The following applicants have requested renewal of scientific research and enhancement of survival permits to conduct certain activities with endangered species pursuant to Section 10(a)(1)(A) of the Endangered Species Act of 1973, as amended (16 U.S.C. 1531 et seq.)

Applicant: ERO Resources Corporation, Denver, Colorado, TE-043060.

The applicant requests a permit amendment to add surveys for Southwestern willow flycatchers (Empidonax traillii extimus) in conjunction with recovery activities throughout the species' range for the purpose of enhancing its survival and recovery.

Applicant: Dr. Todd Crowl, Utah State University, Logan, Utah, TE-049748.

The applicant requests a renewed permit to take Bonytail chub (Gila elegans), Colorado pikeminnow (Ptychocheilus lucius), June sucker (Chasmistes liorus), and Razorback sucker (Xyrauchen texanus) in conjunction with recovery activities throughout the species' range for the purpose of enhancing their survival and recovery.

Applicant: Omaha's Henry Doorly Zoo, Omaha, Nebraska, TE-053961.

The above applicants request permits to possess black-footed ferrets (Mustela nigripes), Desert tortoise (Gopherus agassizii), gray wolf (Canis lupus), grizzly bear (Urus arctos horribilis), and Wyoming toad (Bufo hemiophrys baxteri) for public display and propagation in conjunction with recovery activities for the purpose of enhancing their survival and recovery.

Applicant: The Nature Conservancy, Hayden, Colorado, TE-054217.

The applicant requests a permit to possess Colorado pikeminnow (Ptychocheilus lucius), bonytail (Gila elegans), humpback chub (Gila cypha), and razorback sucker (Xyrauchen texanus) for public display and education in conjunction with recovery activities for the purpose of enhancing their survival and recovery.

Applicants: Savage and Savage, Louisville, Colorado, TE-051718; TRC Mariah Associates, Inc., Laramie, Wyoming, TE-052582; Natural Resource Options, Inc., Bozeman, Montana, TE-052583.

The above applicants request renewed permits to survey for Southwestern willow flycatchers (Empidonax traillii extimus) in conjunction with recovery activities throughout the species' range for the purpose of enhancing its survival and recovery.

Applicants: Dakota Zoo, Bismarck , North Dakota, TE-051815; Louisville Zoo, Louisville, Kentucky, TE-051826; Phoenix Zoo, Phoenix, Arizona, TE-051832; Toronto Zoo, Ontario, Canada, TE-051841; Elmwood Park Zoo, Norristown, Pennsylvania, TE-053485; Lee Richardson Zoo, Garden City, Kansas, TE-051825; Fort Worth Zoo, Fort Worth, Texas, TE-051819.

The above applicants request permits to possess black-footed ferrets (Mustela nigripes) for public display and propagation in conjunction with recovery activities for the purpose of enhancing their survival and recovery.

Applicant: Wildlife Conservation Society, Central Park Zoo, New York, New York, TE-051847; Toledo Zoological Gardens, Toledo, Ohio, TE-052627.

The above applicants request permits to possess Wyoming toads (Bufo hemiophrys baxteri) for public display and propagation in conjunction with recovery activities for the purpose of enhancing their survival and recovery.

Correction

In the Federal Register of January 10, 2002, (67 FR 1365), FR Doc. 02-603, in the second column, the list of species requested by Trent Miller should read as follows:

Permit No. TE-047252

Applicant: Trent Miller, SWCA, Inc., Environmental Consultants, Westminster Colorado.

The applicant requests a renewed permit to survey for black-footed ferrets (Mustela nigripes), and Southwestern willow flycatcher (Empidonax traillii extimus) in conjunction with recovery activities throughout the species' range for the purpose of enhancing their survival and recovery.

Dated: March 20, 2002.
John A. Blankenship,
Acting Regional Director, Denver, Colorado.

[FR Doc. 02-8227 Filed 4-8-02; 8:45 am]

BILLING CODE 4310-55-P